DEPARTMENT OF COMMERCE

International Trade Administration

[A-570-053, C-570-054]

Antidumping and Countervailing Duty Orders on Certain Aluminum Foil From the People's Republic of China: Preliminary Affirmative Determinations of Circumvention With Respect to the Republic of Korea and the Kingdom of Thailand; Correction

AGENCY: Enforcement and Compliance, International Trade Administration, Department of Commerce.

ACTION: Notice; correction.

SUMMARY: On March 22, 2023, the U.S. Department of Commerce (Commerce) published a Federal Register notice of the preliminary results of circumvention inquiries pertaining to the antidumping duty (AD) and countervailing duty (CVD) orders on certain aluminum foil from the People's Republic of China (China). The notice incorrectly identified the AD China-wide and CVD all-others cash deposit rates.

DATES: Applicable March 22, 2023.

FOR FURTHER INFORMATION CONTACT: Mark Flessner at (202) 482-6312, AD/CVD Operations Office VI, Enforcement and Compliance, International Trade Administration, U.S. Department of Commerce, 1401 Constitution Avenue NW, Washington, DC 20230.

SUPPLEMENTARY INFORMATION:

Correction

In the Federal Register of March 22, 2023, FR Doc. 2023-05832,¹ on page 17179, in the “Suspension of Liquidation” section, make the following corrections:

¹ See Antidumping and Countervailing Duty Orders on Certain Aluminum Foil from the People's Republic of China: Preliminary Affirmative Determinations of Circumvention with Respect to the Republic of Korea and the Kingdom of Thailand, 88 FR 17177 (March 22, 2023) (Preliminary Determinations).

• Revise the AD cash deposit rate from 106.09 percent to 95.15 percent,² and the CVD cash deposit rate from 18.56 percent to 13.28 percent.” ³

² The China-wide cash deposit rate of 95.15 percent reflects the dumping margin of 105.80 percent adjusted for subsidy offset. See Certain Aluminum Foil from the People's Republic of China: Amended Final Determination of Sales at Less Than Fair Value and Antidumping Duty Order, 83 FR 17362 (April 19, 2018) (AD Amended Final Determination). See also Certain Aluminum Foil from the People's Republic of China: Final Determination of Sales at Less Than Fair Value, 83 FR 9282 (March 5, 2018).

³ See Certain Aluminum Foil from the People's Republic of China: Notice of Court Decision Not in Harmony With the Amended Final Determination in the Countervailing Duty Investigation, and Notice of Amended Final Determination and Amended Countervailing Duty Order, 85 FR 47730 (August 6, 2020) (CVD Second Amended Final Determination). See also Certain Aluminum Foil from the People's Republic of China: Amended Final Affirmative Countervailing Duty Determination and Countervailing Duty Order, 83 FR 17360 (April 19, 2018); and Countervailing Duty Investigation of Certain Aluminum Foil from the People's Republic of China: Final Affirmative Determination, 83 FR 9274 (March 5, 2018).

Background

On March 22, 2023, Commerce published in the Federal Register the preliminary affirmative determinations of the circumvention inquiries of the Republic of Korea and the Kingdom of Thailand.⁴ In the “Suspension of Liquidation” section, Commerce incorrectly stated the AD and CVD cash deposit rates: “If neither the exporter of the aluminum foil from Korea or Thailand, nor the Chinese exporter of the aluminum foil and/or sheet, has a company-specific cash deposit rate, the AD cash deposit rate will be the China-wide rate (106.09 percent), and the CVD cash deposit rate will be the “all-others” rate (18.56 percent).” ⁵ This sentence is corrected as follows: “If neither the exporter of the aluminum foil from Korea or Thailand, nor the Chinese exporter of the aluminum foil and/or sheet, has a company-specific cash deposit rate, the AD cash deposit rate will be the China-wide rate (95.15 percent),⁶ and the CVD cash deposit rate will be the “all-others” rate (13.28 percent).” ⁷

⁴ See Preliminary Determinations.

⁵ Id., 88 FR at 17179.

⁶ The China-wide cash deposit rate of 95.15 percent reflects the dumping margin of 105.80 percent adjusted for subsidy offset. See AD Amended Final Determination.

⁷ See CVD Second Amended Final Determination.

Notification to Interested Parties

This notice serves as a correction and is published in accordance with sections 781(b) and 777(i) of the Tariff Act of 1930, as amended, and 19 CFR 351.226(g)(1).

Dated: March 22, 2023.
Lisa W. Wang,
Assistant Secretary for Enforcement and Compliance.

[FR Doc. 2023-06363 Filed 3-27-23; 8:45 am]

BILLING CODE 3510-DS-P